DEPARTMENT OF ENERGY

Federal Energy Regulatory Commission

[Docket No. EL03-25-000]

NSTAR Electric & Gas Corporation, et al. v. New England Power Pool; Notice of Complaint

November 21, 2002.

Take notice that on November 19, 2002, NSTAR Electric & Gas Corporation, Central Vermont Public Service Corporation, PPL EnergyPlus, LLC, The United Illuminating Company, UNITIL Power Corp., and Fitchburg Gas and Electric Light Company filed a Complaint against the New England Power Pool. The complaint alleges that the NEPOOL Participants Committee failed to restore credits relating to the capability on the Hydro Quebec Interconnection consistent with prior Commission Orders.

Copies of said filing have been served upon NEPOOL Participants and the ISO New England, Inc.

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's web site at http://www.ferc.gov, using the “FERRIS” link. Enter the docket number excluding the last three digits in the docket number filed to access the document. For assistance, please contact FERC Online Support at FERCOnlineSupport@ferc.gov or toll-free at (866)208-3676, or for TTY, contact (202)502-8659. Protests and interventions may be filed electronically via the Internet in lieu of paper; see 18 CFR 385.2001(a)(1)(iii) and the instructions on the Commission's web site under the “e-Filing” link. The Commission strongly encourages electronic filings.

Comment Date: November 29, 2002.

Linwood A. Watson, Jr.,
Deputy Secretary.

[FR Doc. 02-30206 Filed 11-26-02; 8:45 am]

BILLING CODE 6717-01-P